DEPARTMENT OF ENERGY

Federal Energy Regulatory Commission

Combined Notice of Filings #1

Take notice that the Commission received the following exempt wholesale generator filings:

Docket Numbers: EG25-405-000.

Applicants: Skadden, Arps, Slate, Meagher & Flom LLP.

Description: Destiny Storage, LLC submits Notice of Self-Certification of Exempt Wholesale Generator Status.

Filed Date: 7/23/25.

Accession Number: 20250723-5126.

Comment Date: 5 p.m. ET 8/13/25.

Docket Numbers: EG25-406-000.

Applicants: Selma Energy Center, LLC.

Description: Selma Energy Center, LLC submits Notice of Self-Certification of Exempt Wholesale Generator Status.

Filed Date: 7/24/25.

Accession Number: 20250724-5042.

Comment Date: 5 p.m. ET 8/14/25.

Docket Numbers: EG25-407-000.

Applicants: Emmons-Logan Energy Storage, LLC.

Description: Emmons-Logan Energy Storage, LLC submits Notice of Self-Certification of Exempt Wholesale Generator Status.

Filed Date: 7/24/25.

Accession Number: 20250724-5115.

Comment Date: 5 p.m. ET 8/14/25.

Docket Numbers: EG25-408-000.

Applicants: Rock Creek Solar, LLC.

Description: Rock Creek Solar, LLC submits Notice of Self-Certification of Exempt Wholesale Generator Status.

Filed Date: 7/24/25.

Accession Number: 20250724-5116.

Comment Date: 5 p.m. ET 8/14/25.

Take notice that the Commission received the following electric rate filings:

Docket Numbers: ER24-1393-004.

Applicants: Public Service Company of New Mexico.

Description: Compliance filing: Amendment to Appendix 7 of LGIA to be effective 5/16/2025.

Filed Date: 7/24/25.

Accession Number: 20250724-5089.

Comment Date: 5 p.m. ET 8/14/25.

Docket Numbers: ER25-2517-000.

Applicants: Angiola East, LLC.

Description: Supplement to 06/13/2025, Angiola East, LLC tariff filing under ER25-2517.

Filed Date: 7/23/25.

Accession Number: 20250723-5131.

Comment Date: 5 p.m. ET 8/4/25.

Docket Numbers: ER25-2960-000.

Applicants: Consolidated Edison Company of New York, Inc.

Description: § 205(d) Rate Filing: 99 Interconnection Requirement to be effective 7/25/2025.

Filed Date: 7/23/25.

Accession Number: 20250723-5120.

Comment Date: 5 p.m. ET 8/13/25.

Docket Numbers: ER25-2961-000.

Applicants: Lafitte Solar, LLC.

Description: Initial Rate Filing: Market Based Rate to be effective 7/24/2025.

Filed Date: 7/23/25.

Accession Number: 20250723-5121.

Comment Date: 5 p.m. ET 8/13/25.

Docket Numbers: ER25-2962-000.

Applicants: PJM Interconnection, L.L.C.

Description: Tariff Amendment: Notice of Cancellation of WMPA, SA No. 7137; AE2-204 re: withdrawal to be effective 9/22/2025.

Filed Date: 7/23/25.

Accession Number: 20250723-5123.

Comment Date: 5 p.m. ET 8/13/25.

Docket Numbers: ER25-2963-000.

Applicants: AEP Texas Inc.

Description: § 205(d) Rate Filing: AEPTX-Concho Valley Electric Cooperative TSA 1st Amended to be effective 7/1/2025.

Filed Date: 7/23/25.

Accession Number: 20250723-5124.

Comment Date: 5 p.m. ET 8/13/25.

Docket Numbers: ER25-2965-000.

Applicants: Mammoth North LLC.

Description: § 205(d) Rate Filing: Normal filing 2025 to be effective 7/25/2025.

Filed Date: 7/24/25.

Accession Number: 20250724-5035.

Comment Date: 5 p.m. ET 8/14/25.

Docket Numbers: ER25-2966-000.

Applicants: Great Bend Solar, LLC.

Description: § 205(d) Rate Filing: Normal filing 2025 to be effective 7/25/2025.

Filed Date: 7/24/25.

Accession Number: 20250724-5036.

Comment Date: 5 p.m. ET 8/14/25.

Docket Numbers: ER25-2967-000.

Applicants: Alabama Power Company, Georgia Power Company, Mississippi Power Company.

Description: § 205(d) Rate Filing: Alabama Power Company submits tariff filing per 35.13(a)(2)(iii): Dothan Solar Amended & Restated LGIA Filing to be effective 7/11/2025.

Filed Date: 7/24/25.

Accession Number: 20250724-5083.

Comment Date: 5 p.m. ET 8/14/25.

Docket Numbers: ER25-2968-000.

Applicants: Southern California Edison Company.

Description: § 205(d) Rate Filing: Amended GIA DSA, OTP-Palmdale, WDT625 WDT10547 (SA. 595 596) to be effective 9/23/2025.

Filed Date: 7/24/25.

Accession Number: 20250724-5090.

Comment Date: 5 p.m. ET 8/14/25.

Docket Numbers: ER25-2969-000.

Applicants: Duke Energy Indiana, LLC.

Description: § 205(d) Rate Filing: DEI-WVPA-IMPA—Amendment to RS No. 253 to be effective 9/23/2025.

Filed Date: 7/24/25.

Accession Number: 20250724-5097.

Comment Date: 5 p.m. ET 8/14/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 24, 2025.
Carlos D. Clay,
Deputy Secretary.

[FR Doc. 2025-14300 Filed 7-28-25; 8:45 am]

BILLING CODE 6717-01-P